DEPARTMENT OF HEALTH AND HUMAN SERVICES

Health Resources and Services Administration

Fiscal Year 2003 Competitive Cycle for the Graduate Geropsychology Education Program (GPEP)— CFDA 93.191

AGENCY: Health Resources and Services Administration, HHS.

ACTION: Notice.

SUMMARY: The Health Resources and Services Administration (HRSA) announces that applications will be accepted for the Graduate Geropsychology Education Program (GGEP) for Fiscal Year 2003.

Authorizing Legislation: These applications are solicited under section 755(b)(1)(J) of the Public Health Service Act as amended, and the FY 2003 Appropriations Act, Pub. L. 108-7 which provides $1.5 million to support graduate geropsychology education programs to train clinical geropsychologists in accredited psychology programs.

Purpose: Grants will be awarded to assist eligible entities in meeting the costs to plan, develop, operate, or maintain graduate geropsychology education programs to train clinical geropsychologists to work with underserved elderly populations to foster an integrated approach to health care services and address access for underserved elderly populations. The Graduate Geropsychology Education Program addresses the interrelatedness of behavior and health and the critical need for integrated health care services for the underserved elderly. Funding may be made available to doctoral programs, doctoral internship programs, and post-doctoral residency programs accredited by the American Psychological Association (APA).

Eligible Applicants: Eligible entities: accredited health profession schools, universities, and other public or private nonprofit entities. Applicant programs must be accredited by the American Psychological Association (APA). As provided in section 750, to be eligible to receive assistance, the eligible entity must use such assistance in collaboration with two or more disciplines.

Statutory Funding Preference: A funding preference is defined as the funding of a specific category or group of approved applications ahead of other categories or groups of applications. This statutory general preference will only be applied to applications that rank above the 20th percentile of applications recommended for approval by the peer review group.

As provided in section 791(a) of the Public Health Service Act, preference will be given to any qualified applicant that: (1) Has a high rate for placing graduates in practice settings having the principal focus of serving residents of medically underserved communities; or (2) during the 2-year period preceding the fiscal year for which such an award is sought, has achieved a significant increase in the rate of placing graduates in such settings. “High Rate” refers to a minimum of 20 percent of graduates in academic year 2000-2001 or academic year 2001-2002, whichever is greater, who spend at least 50 percent of their worktime in clinical practice in the specified settings and that not less than 15% of graduates from the most recent years are working in these settings.

“Significant Increase in the Rate” means that, between academic years 2000-2001 and 2001-2002, the rate of placing graduates in the specified settings has increased by a minimum of 50 percent.

If the applicant is applying for the Funding Preference as a New Program, please note the following: New programs (i.e., programs that have graduated less than three classes) can qualify for the statutory funding preference if four or more of the following criteria are met:

1. The mission statement of the program identifies a specific purpose of preparing health professionals to serve underserved populations.

2. The curriculum includes content that will help to prepare practitioners to serve underserved populations.

3. Substantial clinical training experience is required in medically underserved communities.

4. A minimum of 20 percent of the faculty spend at least 50 percent of their time providing/supervising care in medically underserved communities.

5. The entire program or a substantial portion of the program, (i.e., the primary, ambulatory education training sites) is physically located in a medically underserved community.

6. Student assistance, which is linked to service in medically underserved communities following graduation, is available to the students in the program.

7. The program provides a placement mechanism for deploying graduates to medically underserved communities.

Administrative Funding Preference: An administrative funding preference will be given to qualified applicants who have an existing clinical geropsychology education program.

Administrative Funding Priority: A funding priority will be given to qualified applicants who educate and train clinical geropsychologists in rural and frontier areas.

Administrative Special Consideration: Special consideration will be given to applicants who (a) develop new and innovative approaches to education and training using distance learning methodologies/telehealth, or (b) enhance or expand existing distance learning educational programs with the purpose of preparing health professionals and health professional students to deliver quality health care in medically underserved communities.

Estimated Amount of Available Funds: $1,300,000.

Estimated Number of Awards: 6.

Estimated Average Size of Each Award: $225,000-$250,000.

Estimated Funding Period: 3 years.

Application Requests, Availability, Date and Addresses: Application materials will be available for downloading via the Web at http://bhpr.hrsa.gov/grants/default.htm on June 10, 2003. Applicants may also request a hardcopy of the application material by contacting the HRSA Grants Application Center, 901 Russell Avenue, Suite 450, Gaithersburg, Maryland, 20879, by calling at 1-877-477-2123, or by fax at 1-877-477-2345. In order to be considered for competition, applications must be postmarked or submitted to the address listed above by the due date July 11, 2003. Applicants should request a legibly dated U.S. Postal postmark or obtain a legibly dated receipt from a commercial carrier or U.S. Postal Service. Private metered postmarks shall not be acceptable as proof of timely mailing. An application receipt will be provided. Applications submitted after the deadline date will be returned to the applicant and not processed. Applicants should note that HRSA anticipates accepting grant applications online in the last quarter of the Fiscal Year (July through September). Please refer to the HRSA grants schedule at http://www.hrsa.gov/grants.htm for more information.

Projected Award Date: September 15, 2003.

FOR FURTHER INFORMATION CONTACT: Barbara Broome, Division of State, Community and Public Health, Bureau of Health Professions, HRSA, Room 8-103, Parklawn Building, 5600 Fishers Lane, Rockville, Maryland 20857; or e-mail at bbroome@hrsa.gov. Telephone number is (301) 443-6866.

Paperwork Reduction Act: The application for the Graduate Geropsychology Education Program has been approved by the Office of Management and Budget (OMB) under the Paperwork Reduction Act. The OMB clearance number is 0915-0060. The program is not subject to the provisions of Executive Order 12372, Intergovernmental Review of Federal Programs (as implemented through 45 CFR part 100).

Dated: May 22, 2003.
Elizabeth M. Duke,
Administrator.

[FR Doc. 03-14548 Filed 6-9-03; 8:45 am]

BILLING CODE 4165-15-P